POSTAL SERVICE

Privacy Act of 1974, System of Records

AGENCY: Postal Service.

ACTION: Notice of new system of records.

SUMMARY: The Postal Service™ proposes a new Privacy Act system of records. The system of records relates to name and address files the Postal Service plans to maintain for the purpose of improving the accuracy of mail piece addresses and mail delivery. The files will contain name and address data provided by mailers, where the address contains a minor error, as well as the associated correct address provided by the Postal Service. The files will allow the Postal Service to eliminate repeated corrections of address records. Extensive privacy and security safeguards have been implemented as described in this notice.

DATES: Any interested party may submit written comments on the proposed system of records. This proposal will become effective without further notice on July 5, 2005, unless comments received on or before that date result in a contrary determination.

ADDRESSES: Written comments on this proposal should be mailed or delivered to the Records Office, United States Postal Service, 475 L'Enfant Plaza, SW., Room 5846, Washington, DC 20260. Copies of all written comments will be available at the above address for public inspection and photocopying between 8 a.m. and 4 p.m., Monday through Friday.

FOR FURTHER INFORMATION CONTACT: Privacy Office, United States Postal Service, 475 L'Enfant Plaza SW., Room 10407, Washington, DC 20260-2200.

SUPPLEMENTARY INFORMATION:

Introduction

In this notice, the Postal Service proposes a new system of records: USPS 800.200, Address Element Correction Enhanced Service (AECES). The new system of records supports the Postal Service's goal to improve mail processing and delivery service for customers by increasing the proportion of mail that is properly addressed. The AECES program is the next generation of address element correction services offered to mailers. The program serves to correct mailers' address lists that contain minor address errors. Minor address errors occur where one or more address elements are inaccurate. Examples include incorrect or transposed letters in a street name, missing directionals such as north or south, or abbreviations that prevent accurate bar coding. Through AECES, the Postal Service will be able to improve the speed and accuracy of mail delivery, and avoid repetitive correction of the same customer record at the delivery unit level. Comprehensive safeguards have been established to ensure the protection of all personally identifiable information. The Postal Service does not anticipate any adverse effects on the privacy rights of customers resulting from operation of AECES.

Described below are: (I) The background of mail processing and existing programs; (II) the rationale for the new program and expected benefits; and (III) the extensive privacy and security controls for AECES.

I. Background

The Postal Service is committed to its fundamental mission to provide timely and reliable mail delivery to all households and businesses in all communities across the nation. It is also committed to ensuring the highest levels of privacy and security for customers and their mail. The Postal Service's trusted brand is based on these values.

The Postal Service delivers 206 billion pieces of mail to over 142 million households and businesses. According to the Census Department, 14.8% of the U.S. population relocates every year, which results in the redirection of 3.3 billion pieces of First-Class Mail®. In addition, approximately 1.8 million new addresses are added to the postal delivery network each year. As service levels improve and the delivery network expands, the Postal Service seeks to use enhanced technology to improve mail processing and provide better customer satisfaction. The Postal Service, mailers, and consumers depend on the completeness and accuracy of addresses. Mail pieces, when properly addressed, can be delivered efficiently and accurately to the intended recipient.

To facilitate accuracy and speed of delivery, the Postal Service maintains a database of addresses known as the Address Management System (AMS). AMS contains all delivery points for mail as reported by delivery unit personnel. Postal Service personnel continue to update AMS as new addresses arise based upon letter carrier knowledge. AMS supports automated mail processing by enabling the Postal Service to bar code and sort mail, including to its correct delivery point for certain mail classes. Bar coded mail can be processed on automated sorting equipment rather than by manual or mechanized operations. Without a match with an AMS address, even due to minor discrepancies such as transposed characters, the Postal Service cannot be certain of the exact delivery address through machine recognition. The Postal Service must then take additional manual steps to try to locate the address, which may result in delays or problems in delivery.

If a mail piece cannot be bar coded and sorted to its correct delivery point via automation, it is sent to the distribution clerk at the delivery unit that processes mail for the corresponding ZIP Code™ . The clerk manually sorts the mail piece to the carrier whose route the clerk believes includes the address. The letter carrier receives the mail piece and reviews the address to determine if it corresponds to a delivery point on his or her route. If it does, the carrier places the mail piece in the proper sequence for the route. If it does not, the carrier looks at the addressee's name to see if he or she recognizes it as a customer on the route. If the carrier recognizes the name, the carrier delivers the mail piece in the proper sequence that day. However, if the carrier does not recognize the address or name, he or she identifies the mail piece as undeliverable as addressed, and it is returned to the sender or disposed of depending on the class of mail.

If the Postal Service is able to locate the right address and the mailer has endorsed the mail piece appropriately, the Postal Service will send the mailer the correct information, although there is no certainty the mailer will correct its mailing list. The above process can occur repeatedly when the same or different mailers send subsequent mail pieces with the same inaccurate address. The Postal Service currently does not use technology that would allow it to avoid repeating the same errors.

The Postal Service currently uses two existing programs to correct addresses that contain minor errors. Under the first, the current Address Element Correction service (AEC), mailers submit to the Postal Service mailing lists with problem addresses—addresses the mailer knows have an error or problem. The lists may include names or simplified addressee designations, such as Occupant or Postal Customer, in addition to the addresses. Mailers base these lists on sophisticated modeling which examines such items as mail that gets returned to sender, has incomplete bar coding, or is ineligible for postage discounts. The Postal Service runs the lists against the AEC computer program, which uses computer logic to correct common misspellings and other usage errors. For example, if an address on a mail piece is 3117 WWETMONT CT, AEC will correct the spelling in the address to WESTMONT. The Postal Service returns the corrected lists to the mailer. As a result, a greater percentage of the mailer's mail will be properly addressed.

The second program, Electronic Uncoded Address Resolution Service (eUARS), involves change of address requests submitted by customers that contain minor address errors. The Postal Service receives and processes over 44 million change of address (COA) orders from customers each year. The eUARS system is used to improve address quality of COA records where a new address provided by the customer is faulty or incomplete. On a weekly basis, the Postal Service enters into the eUARS system the change of address orders that cannot be recognized to a delivery point. The eUARS system is then accessed by employees at local delivery units. The employees review the entries, and either correct the errors to match an actual delivery point, or, if they are unable to determine the correct address, indicate the record is undeliverable as addressed. This aspect of address element correction, including COA order processing and eUARS, is covered by Privacy Act system of records USPS 800.000, Address Change, Mail Forwarding, and Related Services.

II. Rationale for Address Element Correction Enhanced Service (AECES)

The Postal Service proposes to implement AECES as a tool to increase the percentage of properly addressed mail pieces. AECES is an enhanced service that will be available to mailers to correct minor errors in addresses that are not correctable by existing programs. Under the AECES program, like AEC, mailers will provide the Postal Service with a list of names and bad addresses. The list will include names or simplified addressees such as occupant or postal customer, and address elements including street number and name, city, and state. The Postal Service will enter names and problem addresses that cannot be corrected by AEC into eUARS. Employees at local delivery units will review the bad addresses and will enter in eUARS either the known corrected addresses, or indicate a reason why mail cannot be delivered, such as the address does not exist or is incomplete or illegible. Names are used only as an additional tool if the right address cannot be determined from the inaccurate address. For example, two records may vary only by the absence of a pre-directional, such as north or south, in which case the customer name helps the delivery unit personnel determine the correct address. The Postal Service will then provide corrected addresses to the mailer via secure transmission. This will allow the mailer to address future mail pieces accurately, which ensures efficient and accurate delivery of those pieces.

In addition to correcting a mailer's inaccurate addresses, AECES has other benefits as well. AECES allows the Postal Service and mailers (either the same mailer who neglects to update its files or other mailers that have the same inaccurate addresses) to efficiently correct the inaccuracy for future mailings, so that delivery units are not asked to correct the same bad address repeatedly.

Once an address is corrected via eUARS, the Postal Service will have a record that associates an inaccurate address with a correct one. The Postal Service will use this record to create an AECES Update File. The File will include names, inaccurate addresses, and correct addresses. The first of these two pieces of information, the name and inaccurate address, will be stored exclusively in a hash format known as a Secure Hash Algorithm 1 (SHA-1). The information in the hash will only be available, to the Postal Service or mailers, based on a match that includes the exact name and exact address error. This will ensure that mailers whose lists are processed under AECES will only receive corrected information if they truly have the original inaccurate address. The Postal Service will provide the mailer only the corrected address, or a reason mail cannot be delivered to the address.

After implementation of AECES, when a mailer submits its list of names and inaccurate addresses, the Postal Service will submit the list first through AEC, then AECES. Corrections will be provided to the mailer to update its list. Each correction by delivery unit personnel will be entered into the AECES Update File. In this way, fewer bad addresses will have to return to eUARS and the delivery unit again for repeated correction.

AECES will add benefits to the address element correction process not currently offered by the other two programs. AEC relies solely on computer logic routines to correct bad addresses, whereas AECES uses actual customer names and addresses received from the mailers and knowledgeable Postal Service personnel. AECES broadens the scope of eUARS to handle other existing bad addresses, not just faulty COA data. The value of the AECES Update File will increase over time as more corrected records are compiled. The correction rate is expected to increase as the file grows. AEC alone has shown an accumulated resolution rate of 30.5%. The Postal Service anticipates that 80% of records submitted by mailers will be resolved through address element correction programs including AECES. The improvement in correction capability translates directly to improved accuracy and delivery of the mail. In addition, the Update File will provide increasing efficiencies by avoiding repetitive corrective actions and manual handling by Postal Service personnel.

III. Privacy and Security Safeguards for AECES

The Postal Service has established comprehensive safeguards to protect the privacy and security of names and addresses compiled under AECES. This includes records contained in eUARS and the AECES Update File. The following describes key aspects of the Privacy Act system, including limitations on the use of data covered by the system, extensive security safeguards, and limitations on external disclosures.

Limitations on Use

Names and addresses maintained under the AECES Program will be used only for the purposes described in this notice and for no other purpose. Names, incorrect addresses, and associated correct addresses or reasons for nondelivery are the only information maintained for this program.

Safeguards

The Postal Service will implement AECES using comprehensive data security techniques. Names and addresses that can be read by delivery unit personnel in clear text form in eUARS are only maintained until the record is corrected, but under no circumstance will the record be maintained longer than 104 days. After 104 days, an address record obtained under AECES is permanently deleted from eUARS. Access to records is limited to Postal Service personnel whose official duties require such access. User IDs and personal identification numbers are required to access eUARS.

The Postal Service also provides extensive protections for data in the AECES Update File. This includes extensive measures to ensure that mailers cannot use AECES to fish for address information. Mailers' address lists cannot be corrected through the Update File unless they contain a name (not a simplified addressee designation) and an address that contains all required elements, including a street number and street name. Through use of the following procedures, information cannot be obtained from the AECES Update File without an exact match to both the name and inaccurate address. The Postal Service will process and safeguard names and incorrect addresses stored in the Update File using a Secure Hash Algorithm (SHA-1). This technique creates a signed and encrypted data structure for the record which may only be retrieved using the encryption key. The name and incorrect address is converted using SHA-1, resulting in an irreversible digital signature that is stored with the corrected address provided from eUARS. The only way to access the name and incorrect address, and thereby obtain the corrected address, is to query the AECES Update File with the SHA-1 representation of the identical name and incorrect address. Both the SHA-1 representation and the corrected address will be stored within the Postal Service infrastructure in accordance with Postal Service security procedures, and the corrected address will be encrypted before transmittal to mailers.

Postal Service computer applications such as AECES operate on a secure data communications network used exclusively by the Postal Service. Computer platforms used by the Postal Service for its applications are subjected to a rigorous certification and accreditation process to assure lifecycle security.

Disclosures

The Postal Service limits disclosure under this proposed system of records to the standard routine uses applicable to other customer systems of records as published in the Federal Register. The Postal Service has also established a special routine use to authorize disclosures of corrected addresses back to the mailer. The only information the Postal Service will transmit to the mailer, besides returning its name and address lists, will be either corrected addresses or the reason mail cannot be delivered to a given address.

Summary

The Postal Service seeks to improve the accuracy of mail delivery and reduce the volume of undeliverable as addressed mail. Based on its extensive experience, the Postal Service considers that the AECES program is an appropriate and effective method to increase the accuracy and timeliness of mail delivery. The Postal Service proposes to maintain names and addresses under the AECES Program for this purpose, and has established effective safeguards to protect the information and prevent any other use.

For the reasons stated above, the Postal Service does not expect this notice to have any adverse effect on individual privacy rights. Pursuant to 5 U.S.C. 552a(e)(11), interested persons are invited to submit written data, views or arguments on this proposal. A report of the proposed system has been sent to Congress and to the Office of Management and Budget for their evaluations.

USPS 800.200

System Name:

Address Element Correction Enhanced Service (AECES).

System Location:

USPS National Customer Support Center (NCSC).

Categories of Individuals Covered by the System:

Customers whose corrected addresses are maintained to avoid repetitive correction by USPS personnel.

Categories of Records in the System:

1. Customer information: name, incorrect address, and correct address.

2. Delivery information: reason mail cannot be delivered to an address.

Authority for Maintenance of the System:

39 U.S.C. 401, 403, and 404.

Purpose(s):

To provide address element correction services to increase the rate of properly addressed mail and improve delivery service to customers.

ROUTINE USES OF RECORDS IN THE SYSTEM, INCLUDING CATEGORIES OF USERS AND THE PURPOSES OF SUCH USES:

Standard routine uses 1 through 7, 10, and 11 apply. In addition:

a. Disclosure of a customer's corrected address or reason for nondelivery may be made to a mailer only if the mailer is in possession of the customer's address which contains a minor error.

All routine uses are subject to the following exception: A record concerning an individual who has filed an appropriate protective court order with the postmaster/CFS Manager will not be disclosed under any routine use except pursuant to the order of a court of competent jurisdiction.

Policies and Practices for Storing, Retrieving, Accessing, Retaining, and Disposing of Records in the System:

Storage:

Automated databases.

Retrievability:

By name, correct or incorrect address, or by Secure Hash Algorithm 1 technique, which is a combination of name and incorrect address.

Safeguards:

Paper records, computers, and computer storage media are located in controlled-access areas under supervision of program personnel. Access to these areas is limited to authorized personnel, who must be identified with a badge.

Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software.

Computer applications operate on a secure data communications network used exclusively by the Postal Service.

Secure hash algorithm 1 (SHA-1) encryption is used for the stored representation of an Update File of name and incorrect address records. The Update File is not commingled with any other agency records or databases.

Retention and Disposal:

1. Records pending correction are retained no longer than 104 days.

2. Records in the Update File are retained 7 years from the last affirmative match.

Records existing on paper are disposed of or destroyed. Records existing on computer storage media are destroyed according to the applicable USPS media sanitization practice.

System Manager(s) and Address:

Senior Vice President, Intelligent Mail and Address Quality, United States Postal Service, 475 L'Enfant Plaza SW., Washington, DC 20260. Vice President, Delivery and Retail, United States Postal Service, 475 L'Enfant Plaza SW., Washington, DC 20260.

Notification Procedure:

Customers wanting to know if information about them is maintained in this system of records should address inquiries to: Manager, National Customer Support Center, United States Postal Service, 6060 Primacy Parkway, Memphis, TN 38188. Inquiries should include full name, address, and ZIP Code. All known representations of incorrect name and/or address must be submitted in order to retrieve data to provide to the customer.

Record Access Procedures:

Requests for access must be made in accordance with the Notification Procedure above and USPS Privacy Act regulations regarding access to records and verification of identity under 39 CFR 266.6.

Contesting Record Procedures:

See Notification Procedure and Record Access Procedures above.

Record Source Categories:

USPS employees and mailers.

Neva Watson,
Attorney, Legislative.

[FR Doc. 05-11007 Filed 6-1-05; 8:45 am]

BILLING CODE 7710-12-P